FEDERAL DEPOSIT INSURANCE CORPORATION

FDIC Systemic Resolution Advisory Committee; Notice of Meeting

Agency: Federal Deposit Insurance Corporation.

Action: Notice of Open Meeting.

SUMMARY: In accordance with the Federal Advisory Committee Act, 5 U.S.C. App. 2, notice is hereby given of a meeting of the FDIC Systemic Resolution Advisory Committee (the “SR Advisory Committee”), which will be held in Washington, DC. The SR Advisory Committee will provide advice and recommendations on a broad range of issues regarding the resolution of systemically important financial companies pursuant to Title II of the Dodd-Frank Wall Street Reform and Consumer Protection Act, Public Law 111-203 (July 21, 2010), 12 U.S.C. 5301 et seq. (the “Dodd-Frank Act”).

DATES: Tuesday, June 21, 2011, from 8:30 a.m. to 4 p.m.

ADDRESSES: The meeting will be held in the FDIC Board Room on the sixth floor of the FDIC Building located at 550 17th Street, NW., Washington, DC.

FOR FURTHER INFORMATION CONTACT: Requests for further information concerning the meeting may be directed to Mr. Robert E. Feldman, Committee Management Officer of the FDIC, at (202) 898-7043.

SUPPLEMENTARY INFORMATION:

Agenda: The agenda will include a discussion of a range of issues related to the resolution of systemically important financial companies pursuant to Title II of the Dodd-Frank Act. The agenda may be subject to change. Any changes to the agenda will be announced at the beginning of the meeting.

Type of Meeting: The meeting will be open to the public, limited only by the space available, on a first-come, first-served basis. For security reasons, members of the public will be subject to security screening procedures and must present valid photo identification to enter the building. The FDIC will provide attendees with auxiliary aids (e.g., sign language interpretation) required for this meeting. Those attendees needing such assistance should call (703) 562-6067 (Voice or TTY) at least two days before the meeting to make necessary arrangements. Written statements may be filed with the SR Advisory Committee before or after the meeting. This SR Advisory Committee meeting will be Webcast live via the Internet at http://www.vodium.com/MediapodLibrary/index.asp?library=pn100472_fdic_SRAC. This service is free and available to anyone with the following systems requirements: http://www.vodium.com/home/sysreq.html. Adobe Flash Player is required to view these presentations. The latest version of Adobe Flash Player can be downloaded at: http://www.adobe.com/shockwave/download/download.cgi?P1_Prod_Version=ShockwaveFlash. Installation questions or troubleshooting help can be found at the same link. For optimal viewing, a high speed Internet connection is recommended. The SR Advisory Committee meeting videos are made available on-demand approximately two weeks after the event.

Dated: May 27, 2011.
Federal Deposit Insurance Corporation.
Valerie Best,
Assistant Executive Secretary, Federal Deposit Insurance Corporation.

[FR Doc. 2011-13736 Filed 6-2-11; 8:45 am]

BILLING CODE 6714-01-P